DEPARTMENT OF STATE

[Public Notice 5289]

60-Day Notice of Proposed Information Collections: Notice of Termination of Diplomatic, Consular, or Foreign Government Employment, OMB No.1405-0061, Form DS-2008 & DS-2008E; Notification of Appointment of Foreign Diplomatic Officer, Career Consular Officer, and Foreign Government Employee, OMB No. 1405-0062, Form DS-2003, DS-2004, & DS-2003E; Notification of Appointment of Honorary Consular Officer, OMB No. 1405-0064, Form DS-2005; Notification of Change—Identification Card Request, OMB No. 1405-0089, DS-2006; Notification of Dependents of Diplomatic, Consular and Foreign Government Employees (Continuation Sheet), OMB No. 1405-0090, Form DS-2007

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

Title of Information Collection: Notice of Termination of Diplomatic, Consular, or Foreign Government Employment.

OMB Control Number: 1405-0061.

Type of Request: Extension of Currently Approved Collection.

Originating Office: Diplomatic Security/Office of Foreign Missions (DS/OFM/VTC/V).

Form Numbers: DS-2008 & DS-2008E.

Respondents: Foreign government representatives.

Estimated Number of Respondents: 350 missions.

Estimated Number of Responses: 7,200 forms per year.

Average Hours per Response: 10 minutes.

Total Estimated Burden: 1,200 hours divided among the missions.

Frequency: On occasion.

Obligation to Respond: Mandatory.

Title of Information Collection: Notification of Appointment of Foreign Diplomatic, Career Consular Officer, and Foreign Government Employee.

OMB Control Number: 1405-0062.

Type of Request: Revision of Currently Approved Collection.

Originating Office: Diplomatic Security/Office of Foreign Missions (DS/OFM/VTC/V).

Form Numbers: DS-2003, DS-2004, & DS-2003E.

Respondents: Foreign government representatives.

Estimated Number of Respondents: 350 missions.

Estimated Number of Responses: 7,000 forms per year

Average Hours per Response: 25 minutes.

Total Estimated Burden: 2917 hours divided among the missions.

Frequency: On occasion.

Obligation to Respond: Mandatory.

Title of Information Collection: Notification of Appointment of Honorary Consular Officer.

OMB Control Number: 1405-0064.

Type of Request: Extension of Currently Approved Collection.

Originating Office: Diplomatic Security/Office of Foreign Missions (DS/OFM/VTC/V).

Form Numbers: DS-2005 & DS-2005E.

Respondents: Foreign government representatives.

Estimated Number of Respondents: 155 missions.

Estimated Number of Responses: 200 forms per year.

Average Hours per Response: 20 minutes.

Total Estimated Burden: 67 hours divided among the missions.

Frequency: On occasion.

Obligation to Respond: Mandatory.

Title of Information Collection: Notification of Change—Identification Card Request.

OMB Control Number: 1405-0089.

Type of Request: Extension of Currently Approved Collection.

Originating Office: Diplomatic Security/Office of Foreign Missions (DS/OFM/VTC/V).

Form Numbers: DS-2006.

Respondents: Foreign government representatives.

Estimated Number of Respondents: 350 missions.

Estimated Number of Responses: 5,000 forms per year.

Average Hours per Response: 9 minutes.

Total Estimated Burden: 750 hours divided among the missions.

Frequency: On occasion.

Obligation to Respond: Mandatory.

Title of Information Collection: Notification of Dependents of Diplomatic, Consular, and Foreign Government Employees (Continuation Sheet).

OMB Control Number: 1405-0090.

Type of Request: Extension of Currently Approved Collection.

Originating Office: Diplomatic Security/Office of Foreign Missions (DS/OFM/VTC/V).

Form Numbers: DS-2007.

Respondents: Foreign government representatives.

Estimated Number of Respondents: 350 missions.

Estimated Number of Responses: 7,000 forms per year.

Average Hours per Response: 10 minutes.

Total Estimated Burden: 1,167 hours divided among the missions.

Frequency: On occasion.

Obligation to Respond: Mandatory.

DATES: The Department will accept comments from the public up to 60 days from February 1, 2006.

ADDRESSES: You may submit comments by either of the following methods:

• E-mail: OFMCustomerService@state.gov.

• Mail: U.S. Department of State, Office of Foreign Missions, Attn: Diplomatic Motor Vehicle Director, 3507 International Place, NW., State Annex 33, Washington, DC 20522-3302. You must include the DS form number, information collection title, and OMB control number in any subject line of your correspondence.

FOR FURTHER INFORMATION CONTACT: Direct requests for addition information regarding the collection listed in this notice, including requests for copies of the proposed information collection and supporting documents, to Attn: Jacqueline Robinson, Diplomatic Motor Vehicle Director, Office of Foreign Missions, 3507 International Place, NW., State Annex 33, Washington, DC 20522-3302, who may be reached at 202-895-3528 or RobinsonJD@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collections: The forms associated with OMB numbers 1405-0061, 1405-0062, and 1405-0064 are the means by which the Department of State obtains information concerning the appointment and termination of foreign government employees and diplomatic, career and honorary consular officers serving in the United States. The DS-2007 (OMB number 1405-0090) is the means by which the Department of State obtains information to determine the acceptability of dependents and personal servants accompanying foreign government employees and diplomatic, career and honorary consular officers on tours in the United States. The DS-2006 (OMB number 1405-0089) is used to issue or make changes to identification cards and/or to update information previously submitted. These information collections instruments are used to extend or terminate privileges and immunities as is accorded under the Vienna Convention on Diplomatic Relations, 1961 and the Vienna Convention on Consular Relations, 1963, and to issue official identification cards and letters. The primary respondents are foreign government representatives.

Methodology: These forms/information collections are submitted by all foreign missions to the Office of Foreign Missions via the following methods: Mail, personal delivery, and/or electronically.

Dated: December 28, 2005.
John R. Arndt,
Acting Deputy Assistant Secretary, Bureau of Diplomatic Security, Office of Foreign Missions, Department of State.

[FR Doc. E6-1341 Filed 1-31-06; 8:45 am]

BILLING CODE 4710-43-P